RAILROAD RETIREMENT BOARD

Proposed Collection; Comment Request

SUMMARY: In accordance with the requirement of Section 3506(c)(2)(A) of the Paperwork Reduction Act of 1995, which provides opportunity for public comment on new or revised data collections, the Railroad Retirement Board (RRB) publishes periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

RUIA Applications; OMB 3220-0339

Under Section 2 of the Railroad Unemployment Insurance Act (RUIA), sickness benefits are payable to qualified railroad employees who are unable to work because of illness or injury. In addition, sickness benefits are payable to qualified female employees if they are unable to work, or if working would be injurious, because of pregnancy, miscarriage or childbirth. Under Section 1(k) of the RUIA, a statement of sickness with respect to days of sickness of an employee is to be filed with the RRB within a 10-day period from the first day claimed as a day of sickness. The RRB's authority for requesting supplemental medical information is Section 12(I) and 12(n) of the RUIA. The procedures for claiming sickness benefits and for the RRB to obtain supplemental medical information needed to determine a claimant's eligibility for such benefits is prescribed in 20 CFR part 335.

The forms currently used by the RRB to obtain information needed to determine eligibility for and the amount of sickness benefits due a claimant follows: Form SI-1a, Application for Sickness Benefits; Form SI-1b, Statement of Sickness; Form SI-3, Claim for Sickness Benefits; Form SI-7, Supplemental Doctor's Statement; Form SI-8, Verification of Medical Information; Form ID-7h, Non-Entitlement to Sickness Benefits and Information on Unemployment Benefits; and Form ID-11a, Requesting Reason for Late Filing of Sickness Benefits.

The RRB proposes to revise Form SI-1a to add an item to identify claimants receiving military reserve pay. In order to streamline the payment process, another proposed item will request an explanation from claimants who took more than 30 days to submit their initial application. Non-burden impacting editorial and formatting changes are also proposed to Form SI-1a. Revisions to Form SI-3 are being proposed to add an item to identify claimants receiving military reserve pay and to make minor non-burden impacting editorial and formatting changes. In addition, the RRB proposes the insertion of new Form ID-11b, Notice of Insufficient Medical and Late Filing, into the collection. This form would be sent to a claimant whose sickness application does not contain sufficient medical information to make a filing determination and is received after the 10-day time limit as prescribed under the RUIA. Minor non-burden impacting editorial and formatting changes are being proposed to Form(s) SI-1b, SI-7, SI-8, ID-7h, and ID-11a. Completion of all of the forms is required to obtain or retain a benefit. The number of responses required of each respondent varies depending on the period of sickness.

Estimate of Annual Respondent Burden

The estimated respondent burden is as follows:

Form numbers | Annual responses | Time (min) | Burden (hrs)
SI-1a/1b (claimant) | 27,700 | 10 | 4,617
SI-1a/1b (Dr.) | 27,700 | 8 | 3,693
SI-3 | 181,000 | 5 | 15,083
SI-7 | 33,600 | 8 | 4,480
SI-8 | 50 | 5 | 4
ID-7h | 50 | 5 | 4
ID-11a | 800 | 3 | 40
ID-11b | 1,000 | 3 | 50
Total | 271,900 |  | 27,971

The renewal of this information collection will continue the RRB's initiative to consolidate information collections by major functional areas. The purpose of the initiative is to bring related collection instruments together in one collection, better manage the instruments, and prepare for the electronic collection of this information. (A collection instrument can be an individual form, electronic collection, interview, or any other method that collects specific information from the public.)

As part of the OMB renewal process, the RRB also proposes that this collection (OMB 3220-0039), Application and Claim for Sickness Benefits, be renamed RUIA Applications. Upon approval by OMB, the RRB intends to merge the following OMB approved-related collections into this collection by the expected expiration date(s).

OMB collection number | Title | RRB forms | Expected expiration date
3220-0022 | Application and Claim for Unemployment Benefits and Employment Service | UI-1, UI-3 | 6/30/2003
3220-0034 | Statement of Authority to Act for Employees | SI-10 | 11/30/2002
3220-0036 | Supplemental Information on Accident | SI-1, SI-1c, SI-5, ID-3s, ID-3s-1, ID-3u, ID-30k, ID-30k-1 | 1/31/2002
3220-0055 | Application and Claim for RUIA Benefits Due at Death | UI-63 | 2/28/2003

Revisions to existing collection instruments and, occasionally, a new instrument related to this program function may be required during the three-year cycle of this information collection.

The RRB currently estimates the completion time for Form UI-1, Application for Unemployment Benefits and Employment Service at 10 minutes, Form UI-3, Claim for Unemployment Benefits at 6 minutes, Form SI-10, Statement of Authority to Act for Employee at 6 minutes, Form SI-1c, Supplemental Information on Accident and Insurance at 5 minutes, Form SI-5, Report of Payments to Employee Claiming Sickness Benefits Under the RUIA at 5 minutes, Form ID-3s, Request for Lien Information at 3 minutes, Form ID-3s-1, Request for Lien Information, Report of Settlement of Third Party Liability Cases, at 3 minutes, Form ID-3u, Request for 2(f) Information at 3 minutes, Form ID-30k, Supplemental Information on Injury or Illness at 5 minutes, Form ID-30k-1, Request for Supplemental Information on Injury or Illness, at 5 minutes and UI-63, Application for Benefits Due But Unpaid at Death, at 7 minutes. After the last information collection is merged and other necessary adjustments are made, the resultant information collection is expected to total approximately 38,500 annual burden hours.

A justification for each action described above (merge collection, revised collection instrument, new collection instrument) will be provided to OMB with a correction Change Worksheet (OMB) Form 83-C) at the time the action occurs. With the next renewal of this collection, the RRB will update the information collection package to account for the consolidation and other interim adjustments.

Additional Information or Comments: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 00-22462 Filed 8-31-00; 8:45 am]

BILLING CODE 7905-01-M